DEPARTMENT OF STATE

[Public Notice 8018]

Notice of Public Meeting of the President's Emergency Plan for AIDS Relief (PEPFAR) Scientific Advisory Board

SUMMARY: In accordance with the Federal Advisory Committee Act (FACA), the PEPFAR Scientific Advisory Board (hereinafter referred to as “the Board”) will meet from October 2-3, 2012 at the House of Sweden Event Center, 2900 K Street NW., Washington, DC 20007. The meeting will last from 9 a.m. until approximately 5 p.m. on October 2nd and from 9 a.m. until approximately 3 p.m. on October 3rd and is open to the public. The meeting will be hosted by the Office of the U.S. Global AIDS Coordinator, and led by Ambassador Eric Goosby, who leads implementation of the President's Emergency Plan for AIDS Relief (PEPFAR).

The Board serves the Global AIDS Coordinator in a solely advisory capacity concerning scientific, implementation, and policy issues related to the global response to HIV/AIDS. These issues will be of concern as they influence the priorities and direction of PEPFAR evaluation and research, the content of national and international strategies and implementation, and the role of PEPFAR in international discourse regarding an appropriate and resourced response. Topics for the meeting will include an update on PEPFAR-funded combination prevention studies and implementation science awards; recommendations to Ambassador Goosby on key populations, children and adolescents, and data management; and discussions on relevant scientific topics, including antiretroviral therapy in pregnancy and adherence/retention issues.

The public may attend this meeting as seating capacity allows. Admittance to the meeting will be by means of a pre-arranged clearance list. In order to be placed on the list and, if applicable, to request reasonable accommodation, please register by sending your name, organization/affiliation, and title to SABRegistration@s-3.com. While the meeting is open to public attendance, the Board will determine procedures for public participation. Requests for reasonable accommodation that are made after September 25 might not be possible to fulfill.

For further information about the meeting, please contact Charles Holmes, Chief Medical Officer, Office of the U.S. Global AIDS Coordinator at (202) 663-2440 or HolmesCB@state.gov.

Dated: September 5, 2012.
Charles B. Holmes,
Chief Medical Officer, Office of the U.S. Global AIDS Coordinator, Department of State.

[FR Doc. 2012-22333 Filed 9-10-12; 8:45 am]

BILLING CODE 4710-10-P